DEPARTMENT OF COMMERCE

National Oceanic and Atmospheric Administration

[RTID 0648-XE815]

Marine Mammals; File No. 28533

AGENCY: National Marine Fisheries Service (NMFS), National Oceanic and Atmospheric Administration (NOAA), Commerce.

ACTION: Notice; issuance of permit.

SUMMARY: Notice is hereby given that a permit has been issued to Leslie Hart, Ph.D., College of Charleston, 66 George Street, Charleston, SC 29424 to import, export, and receive marine mammal parts for scientific research.

ADDRESSES: The permit and related documents are available for review upon written request via email to NMFS.Pr1Comments@noaa.gov.

FOR FURTHER INFORMATION CONTACT: Shasta McClenahan, Ph.D., or Carrie Hubard, (301) 427-8401.

SUPPLEMENTARY INFORMATION: On December 17, 2024, notice was published in the Federal Register (89 FR 102118) that a request for a permit to import, export, and receive marine mammal parts for scientific research had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit was issued on March 25, 2025 and is valid through March 31, 2030 and authorizes receipt, import, and export of parts from up to 700 individual cetaceans and 700 individual pinnipeds (excluding walrus) annually to investigate exposure to environmental microplastics.

In compliance with the National Environmental Policy Act of 1969 (42 U.S.C. 4321 et seq.), a final determination has been made that the activity proposed is categorically excluded from the requirement to prepare an environmental assessment or environmental impact statement.

As required by the ESA, issuance of this permit was based on a finding that such permit: (1) was applied for in good faith; (2) will not operate to the disadvantage of such endangered species; and (3) is consistent with the purposes and policies set forth in section 2 of the ESA.

Dated: April 21, 2025.
Julia M. Harrison,
Chief, Permits and Conservation Division, Office of Protected Resources, National Marine Fisheries Service.

[FR Doc. 2025-07070 Filed 4-23-25; 8:45 am]

BILLING CODE 3510-22-P